GENERAL SERVICES ADMINISTRATION

[OMB Control No. 3090-0287; Docket No. 2024-0001; Sequence No. 11]

Submission for OMB Review; Background Investigations for Child Care Workers; GSA Form 176

AGENCY: Office of Mission Assurance, General Services Administration (GSA).

ACTION: Notice and request for comments.

SUMMARY: In accordance with the Paperwork Reduction Act of 1995, and the Office of Management and Budget (OMB) regulations, GSA invites the public to comment on a request to review and approve an extension of a previously approved information collection requirement regarding the collection of personal data for background investigations for childcare workers accessing GSA owned and leased controlled facilities.

DATES: Submit comments on or before: December 6, 2024.

ADDRESSES: Written comments and recommendations for this information collection should be sent within 30 days of publication of this notice to www.reginfo.gov/public/do/PRAMain. Find this particular information collection by selecting “Currently under Review—Open for Public Comments” or by using the search function.

FOR FURTHER INFORMATION CONTACT: Mr. Phil Ahn, Security Officer, Office of Mission Assurance, GSA, 202-219-0273, or via email at phillip.ahn@gsa.gov.

SUPPLEMENTARY INFORMATION:

A. Purpose

Homeland Security Presidential Directive (HSPD) 12 “Policy for a Common Identification Standard for Federal Employees and Contractors” requires the implementation of a governmentwide standard for secure and reliable forms of identification for Federal employees and contractors. OMB's implementing instructions requires all contract employees requiring routine access to federally controlled facilities for greater than six (6) months to receive a background investigation. The minimum background investigation is Tier 1 and the Office of Personnel Management offers a Tier 1C for child care.

However, there is no requirement in the law or HSPD-12 that requires childcare employees to be subject to the Tier 1C since employees of childcare providers are neither government employees nor government contractors. The childcare providers are required to complete the criminal history background checks mandated in the Crime Control Act of 1990, Public Law 101-647, dated November 29, 1990, as amended by Public Law 102-190, dated December 5, 1991. These statutes require that each employee of a childcare center located in a federal building or in leased space must undergo a background check.

According to GSA policy, childcare workers (as described above) will need to submit the following:

1. An original signed copy of a Basic National Agency Check Criminal History, GSA Form 176; and

2. Two sets of fingerprints on FBI Fingerprint Cards, for SF-87 and/or electronic prints from an enrollment center.

3. Electronically submit the e-qip (SF85) application for completion of the Tier 1C.

This is not a request to collect new information; this is a request to change the form that is currently being used to collect this information.

B. Annual Reporting Burden

Respondents: 1,200.

Responses per Respondent: 1.

Hours per Response: 1.

Total Burden Hours: 1,200.

C. Public Comments

A 60-day notice published in the Federal Register at 89 FR 59099 on July 22, 2024. One comment was received.

Comment: There have been suggestions that the child care provider keep form 176 on file for each employee—seems redundant—since HSPD and OPM have these files requiring the provider is over kill and really these clearance documents that the federal government require should not be in a private company's file as many of the questions asked are not things the private sector employers can ask for and by having them it can lead to the suggestion that we have used these question to dismiss employees or used to not hire them based on answers to clearance questions.

Response: There is no requirement to keep a Form 176 on file for each employee. However, the childcare provider must comply with applicable requirements and adequately demonstrate such compliance, if necessary.

Lois Mandell,
Director, Regulatory Secretariat Division, General Services Administration.

[FR Doc. 2024-25741 Filed 11-5-24; 8:45 am]

BILLING CODE 6820-23-P